DEPARTMENT OF COMMERCE

National Oceanic and Atmospheric Administration

Hydrographic Services Review Panel Meeting

AGENCY: National Ocean Service, National Oceanic and Atmospheric Administration (NOAA), Department of Commerce.

ACTION: Notice of public meeting (via teleconference call) on September 17, 2010.

SUMMARY: The Hydrographic Services Review Panel (HSRP), a Federal Advisory Committee, will be holding a public meeting via teleconference on September 17, 2010. The purpose of the meeting is to discuss and on vote on proposed revisions to an updated version of HSRP's Special Report entitled, “HSRP Most Wanted Hydrographic Services Improvements 2007.”

Date and Time: The teleconference will commence at 2 p.m. Eastern Daylight Time on Friday, September 17, 2010, and will end on or about 3 p.m.

Public Participation: The teleconference will be open to the public and the last 15 minutes will be set aside for oral or written comments.

FOR FURTHER INFORMATION CONTACT: Captain John E. Lowell, Jr., Designated Federal Official (DFO), or Kathy Watson, HSRP Program Coordinator, Office of Coast Survey, National Ocean Service (NOS), NOAA (N/CS), 1315 East West Highway, Silver Spring, Maryland 20910; Telephone: (301) 713-2770 x158; Fax: (301) 713-4019; E-mail: Hydroservices.panel@noaa.gov or visit the NOAA HSRP Web site at http://www.nauticalcharts.noaa.gov/ocs/hsrp/hsrp.htm.

SUPPLEMENTARY INFORMATION: This teleconference is available to the public through the following, toll free call-in number: 1-866-658-4142; participant passcode: 8479431. Interested members of the public may call this number and listen to the meeting. Written public comments should be submitted to Captain John E. Lowell, Jr., Designated Federal Officer (DFO), by September 13, 2010.

Dated: August 27, 2010.
John Lowell,
Director, Office of Coast Survey, National Ocean Service, National Oceanic and Atmospheric Administration.

[FR Doc. 2010-21882 Filed 8-31-10; 8:45 am]

BILLING CODE 3510-JE-P